DEPARTMENT OF VETERANS AFFAIRS

[OMB Control No. 2900-0445]

Proposed Information Collection Activity: Proposed Collection; Comment Request

AGENCY: Office of Small and Disadvantaged Business Utilization, Department of Veterans Affairs.

ACTION: Notice.

SUMMARY: The Office of Small and Disadvantaged Business Utilization (OSDBU), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed to identify veteran-owned businesses.

DATES: Written comments and recommendations on the proposed collection of information should be received on or before May 30, 2000.

ADDRESSES: Submit written comments on the collection of information to Lynette Simmons, Office of Small and Disadvantaged Business Utilization (00SB), Department of Veterans Affairs, 810 Vermont Avenue, NW, Washington, DC 20420. Please refer to “OMB Control No. 2900-0445” in any correspondence.

FOR FURTHER INFORMATION CONTACT: Lynette Simmons (202) 565-8136.

SUPPLEMENTARY INFORMATION: Under the PRA of 1995 (P.L. 104-13; 44 U.S.C., 3501-3520), Federal agencies must obtain approval from the Office of Management and Budget (OMB) for each collection of information they conduct or sponsor. This request for comment is being made pursuant to Section 3506(c)(2)(A) of the PRA.

With respect to the following collection of information, OSDBU invites comments on:

(1) Whether the proposed collection of information is necessary for the proper performance of OSDBU's functions, including whether the information will have practical utility; (2) the accuracy of OSDBU's estimate of the burden of the proposed collection of information; (3) ways to enhance the quality, utility, and clarity of the information to be collected; and (4) ways to minimize the burden of the collection of information on respondents, including through the use of automated collection techniques or the use of other forms of information technology.

Title and Form Number: VAAR Subpart 819.70, Veteran-Owned and Operated Small Business (Exceptions to Standard Forms 18 and 129).

OMB Control Number: 2900-0445.

Type of Review: Extension of a currently approved collection.

Abstract: The information will be used by VA to identify veteran-owned businesses and to ensure eligible veteran-owned firms are given an opportunity to participate in VA solicitations for goods and services. Without this information there would be no way to properly monitor this program.

Affected Public: Business or other for-profit.

Estimated Annual Burden: 4,727 hours.

Estimated Average Burden Per Respondent: Additional burden imposed on Standard Forms 18 and 129 is 5 seconds.

Frequency of Response: On occasion.

Estimated Number of Respondents: 3,403,500.

Dated: February 29, 2000.
By direction of the Secretary.
Donald L. Neilson,
Director, Information Management Service.

[FR Doc. 00-7915 Filed 3-29-00; 8:45 am]

BILLING CODE 8320-01-U